DEPARTMENT OF HEALTH AND HUMAN SERVICES

National Institutes of Health

Center for Scientific Review; Amended Notice of Meeting

Notice is hereby given of a change in the meeting of the Molecular Genetics B Study Section, October 3, 2010, 7 p.m. to October 4, 2010, 8 a.m., The Fairmont Hotel, 950 Mason Street, San Francisco, CA 94108 which was published in the Federal Register on August 19, 2010, 75 FR 51277-51278.

The meeting will be held October 4, 2010, 7 p.m. to October 5, 2010, 6 p.m. The meeting location remains the same. The meeting is closed to the public.

Dated: August 19, 2010.
Jennifer S. Spaeth,
Director, Office of Federal Advisory Committee Policy.

[FR Doc. 2010-21352 Filed 8-26-10; 8:45 am]

BILLING CODE 4140-01-P